SELECTIVE SERVICE SYSTEM

Recission of Performance Review Board

AGENCY: Selective Service System.

ACTION: Notice.

SUMMARY: Selective Service System Rescinds its Performance Review Board [FR Doc. 2024-24311 Filed 10-18-24; 8:45 a.m.] per the President's Memorandum on Restoring Accountability for Career Senior Executives, dated January 20, 2025.

FOR FURTHER INFORMATION CONTACT: Lee Levells, Human Resources Officer, Selective Service System, 1501 Wilson Blvd., Arlington, VA 22209, telephone: 703-605-4011.

SUPPLEMENTARY INFORMATION: Sec. 4314(c) (1) through (5) of title 5, U.S.C., requires each agency to establish, in accordance with regulations prescribed by the Office of Personnel Management, one or more performance review boards. The board shall review and evaluate the initial appraisal of a senior executive's performance by the supervisor, along with any recommendations to the appointing authority relative to the performance of the senior executive. President's Memorandum on Restoring Accountability for Career Senior Executives, dated January 20, 2025, directs Agency heads to rescind their Performance Review Board and re-constitute membership with individuals committed to full enforcement of SES performance evaluations that promote and assure an SES of the highest caliber. The SSS PRB will be established at a later date once the Agency's appointees are in place.

Daniel A. Lauretano, Sr.,
General Counsel.

[FR Doc. 2025-01947 Filed 1-29-25; 8:45 am]

BILLING CODE 8015-01-P